DEPARTMENT OF LABOR

Employment and Training Administration

[TA-W-55,233]

Meadwestvaco Corporation Including Leased Workers of D&H Associates, Inc. and Proserv, Inc. Escanaba Mills, Escanaba, MI; Notice of Negative Determination Regarding Application for Reconsideration

By application of September 7, 2004, a petitioner representative requested administrative reconsideration of the Department's negative determination regarding eligibility for workers and former workers of the subject firm to apply for Trade Adjustment Assistance (TAA). The denial notice was signed on August 10, 2004 and published in the Federal Register on September 8, 2004 (69 FR 54321).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, which was filed on behalf of workers at Meadwestvaco Corporation, Escanaba Mills, Escanaba, Michigan, engaged in the production of coated paper, was denied based on the findings that during the relevant time periods, the subject company did not separate or threaten to separate a significant number or proportion of workers, as required by Section 222 of the Trade Act of 1974; that subject company's sales and production had increased from 2002 to 2003, and also increased during January through July 2004 compared to 2003; and that the subject company did not shift production abroad.

In the request for reconsideration, the petitioner alleges that the Department “did not take into account the true number of affected workers and job losses due to lost sales to foreign competition.”

For companies with a workforce of over fifty workers, a significant proportion of worker separations or threatened separations is five percent. In determining whether there were a significant proportion of workers separated or threatened with separations at the subject company during the relevant time periods, the Department requested employment figures for the subject company's Escanaba Mills for 2002, 2003, January-July 2003 and January-July 2004. A careful review of the information provided in the initial investigation revealed that employment at the Escanaba Mills declined about two percent during the relevant time period.

A petitioner was contacted to clarify the statement of “the true number of affected workers”. The petitioner informed that a significant number of workers had been separated from the subject firm since 1998 and that this number should be taken into consideration by the Department.

When assessing eligibility for TAA, the Department exclusively considers the relevant employment data for the facility where the petitioning worker group was employed. The relevant period represents four quarters back from the date of the petition, thus data from 1998 is irrelevant in this investigation. As employment levels, sales and production at the subject facility did not decline in the relevant period, and the subject firm did not shift production to a foreign country, criteria (a)(2)(A)(I.A), (a)(2)(B)(II.A), (a)(2)(A)(I.B), and (a)(2)(B)(II.B) have not been met.

The request for reconsideration also alleged that the subject company failed to provide key customer contact information.

Since the petition resulted in a denial due to employment, sales and production criteria not being met, the initial investigation did not pursue this line of inquiry and any alleged failure to provide customer contact information did not influence the determination of the case.

Conclusion

After review of the application and investigative findings, I conclude that there has been no error or misinterpretation of the law or of the facts which would justify reconsideration of the Department of Labor's prior decision. Accordingly, the application is denied.

Signed at Washington, DC, this 13th day of October 2004.
Elliott S. Kushner,
Certifying Officer, Division of Trade Adjustment Assistance.

[FR Doc. E4-2811 Filed 10-22-04; 8:45 am]

BILLING CODE 4510-30-P